DEPARTMENT OF HOMELAND SECURITY

Coast Guard

33 CFR Part 117

[Docket No. USCG-2015-0046]

Drawbridge Operation Regulations; Snake Creek, Islamorada, FL

AGENCY: Coast Guard, DHS.

ACTION: Notice of temporary deviation from regulations; request for comments.

SUMMARY: The Coast Guard has issued a temporary deviation from the operating schedule that governs the Snake Creek Bridge across Snake Creek, at Islamorada, FL. This deviation will test a change to the drawbridge operation schedule to determine whether a permanent change to the schedule is needed. This deviation will allow Snake Creek Bridge to open once an hour between 8 a.m. and 6 p.m. Local officials are requesting this action to assist in reducing traffic caused by bridge openings.

DATES: This deviation is effective without actual notice from March 27, 2015 to 6 p.m. on July 14, 2015. For the purposes of enforcement, actual notice will be used from 8 a.m. on March 16, 2015, until March 27, 2015.

Comments and related material must be received by the Coast Guard on or before September 14, 2015. Requests for public meetings must be received by the Coast Guard on or before July 14, 2015.

ADDRESSES: You may submit comments identified by docket number USCG-2015-0046 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for instructions on submitting comments. To avoid duplication, please use only one of these three methods.

FOR FURTHER INFORMATION CONTACT: If you have questions on this temporary deviation, call or email Coast Guard Sector Key West Waterways Management Division; telephone 305-292-8772, email D07-DG-SECKW-WaterwaysManagement@uscg.mil. If you have questions on viewing or submitting material to the docket, call Cheryl Collins, Program Manager, Docket Operations, telephone 202-366-9826.

SUPPLEMENTARY INFORMATION:

A. Public Participation and Request for Comments

We encourage you to participate in this rulemaking by submitting comments and related materials. All comments received will be posted, without change, to http://www.regulations.gov and will include any personal information you have provided.

1. Submitting Comments

If you submit a comment, please include the docket number for this rulemaking (USCG-2015-0046), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, type the docket number [USCG-2015-0046] in the “SEARCH” box and click “SEARCH.” Click on “Submit a Comment” on the line associated with this rulemaking. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2015-0046) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

As of now, we do not plan to hold a public meeting. You may submit a request for one using one of the three methods specified under ADDRESSES. Please explain why one would be beneficial. If we determine that one would aid this rulemaking, we will hold one at a time and place announced by a later notice in the Federal Register.

B. Basis and Purpose

The Snake Creek Bridge in Islamorada, Florida, owned by the Florida Department of Transportation, has a vertical clearance of 27 feet in the closed position. The normal operating schedule as published in 33 CFR 117.331 is—“The draw of the Snake Creek bridge, at Islamorada, Florida, shall open on signal, except that from 8 a.m. to 4 p.m., the draw need open only on the hour and half-hour.” This schedule has been in effect since 2001.

For the following reasons the Coast Guard is testing a new schedule for the Snake Creek Bridge:

1. As reported by village and city councils, vessel traffic has negatively impacted Islamorada and surrounding communities. This temporary deviation is intended to test a new bridge operation schedule to reduce vehicular traffic caused by bridge openings during peak travel times.

2. On January 8-10, 2013, the Florida Department of Transportation conducted a traffic monitoring study 1400 feet south of the Snake Creek Bridge on US-1. The study found peak traffic volumes occurring at 08:45 a.m. and between 12:15 p.m. and 15:15 p.m.

The types of vessels navigating Snake Creek include sport fishing vessels and catamaran sailboats.

This deviation is effective from 8 a.m. on March 16, 2015 until 6 p.m. on July 14, 2015. This deviation will allow the Snake Creek Bridge in Islamorada, Florida to open on the top of the hour from 8 a.m. to 6 p.m.

During the test deviation, vessels may signal the bridge to open on the top of the hour from 8 a.m. to 6 p.m.

Any vessel that can safely transit under the Snake Creek Bridge while closed may continue to navigate under the bridge during this deviation.

As an alternate route, vessel operators may consider the use of Channel Five, a navigable channel above Long Key, Florida 5.7 nautical miles southwest of Snake Creek Bridge. The fixed US-1 bridge has a vertical clearance of 65 feet.

In accordance with 33 CFR 117.35(e), the drawbridge must return to its regular operating schedule immediately at the end of this temporary deviation's effective period. This deviation from the operating regulations is authorized under 33 CFR 117.35.

Dated: March 6, 2015.
Barry Dragon,
U.S. Coast Guard, Bridge Administrator, Seventh Coast Guard District.

[FR Doc. 2015-06949 Filed 3-26-15; 8:45 am]

BILLING CODE 9110-04-P